DEPARTMENT OF THE INTERIOR

Office of Natural Resources Revenue

[Docket No. BOEM-2010-0051]

Agency Information Collection Activities: Submitted for Office of Management and Budget Review; Comment Request

AGENCY: Office of Natural Resources Revenue (ONRR), Interior.

ACTION: Notice of an extension of a currently approved information collection (OMB Control Number 1010-0120).

SUMMARY: To comply with the Paperwork Reduction Act of 1995 (PRA), we are notifying the public that we have submitted to the Office of Management and Budget (OMB) an information collection request (ICR) to renew approval of the paperwork requirements in this ICR titled “30 CFR Parts 1202, 1206, 1210, 1212, 1217, and 1218, Solid Minerals and Geothermal Resources.” This notice also provides the public a second opportunity to comment on the paperwork burden of these regulatory requirements.

DATES: Submit written comments on or before December 17, 2010.

ADDRESSES: Submit written comments by either FAX (202) 395-6566 or e-mail (OIRA_Docket@omb.eop.gov) directly to the Office of Information and Regulatory Affairs, OMB, Attention: Desk Officer for the Department of the Interior (OMB Control Number 1010-0120).

Please also submit a copy of your comments on this ICR to ONRR by any of the following methods. Please use “ICR 1010-0120” as an identifier in your comment.

• Electronically go to http://www.regulations.gov. In the entry titled “Enter Keyword or ID,” enter BOEM-2010-0051, and then click search. Follow the instructions to submit public comments. The ONRR will post all comments.

• Mail comments to Hyla Hurst, Regulatory Specialist, Office of Natural Resources Revenue, P.O. Box 25165, MS 61013B, Denver, Colorado 80225. Please reference ICR 1010-0120 in your comments.

• Hand-carry comments or use an overnight courier service. Our courier address is Building 85, Room A-614, Denver Federal Center, West 6th Ave. and Kipling St., Denver, Colorado 80225. Please reference ICR 1010-0120 in your comments.

FOR FURTHER INFORMATION CONTACT: Hyla Hurst, telephone (303) 231-3495, or e-mail hyla.hurst@onrr.gov. You may also contact Hyla Hurst to obtain copies, at no cost, of (1) the ICR, (2) any associated forms, and (3) the regulations that require the subject collection of information.

SUPPLEMENTARY INFORMATION: Title: 30 CFR Parts 1202, 1206, 1210, 1212, 1217, and 1218, Solid Minerals and Geothermal Resources.

OMB Control Number: 1010-0120.

Bureau Form Number: MMS-4430, MMS-4292, and MMS-4293.

Abstract: The Secretary of the U.S. Department of the Interior is responsible for mineral resource development on Federal and Indian lands and the Outer Continental Shelf (OCS). The Secretary is required by various laws to manage mineral resource production from Federal and Indian lands and the OCS, collect the royalties and other mineral revenues due, and distribute the funds collected in accordance with applicable laws. Public laws pertaining to mineral leases on Federal and Indian lands are posted on our Web site at http://www.onrr.gov/Laws_R_D/PublicLawsAMR.htm. The Secretary also has a trust responsibility to manage Indian lands and seek advice and information from Indian beneficiaries. The Office of Natural Resources Revenue (ONRR) performs the minerals revenue management functions for the Secretary and assists the Secretary in carrying out the Department's trust responsibility for Indian lands.

I. General Information

When a company or an individual enters into a lease to explore, develop, produce, and dispose of minerals from Federal or Indian lands, that company or individual agrees to pay the lessor a share in an amount or value of production from the leased lands. The lessee is required to report various kinds of information to the lessor relative to the disposition of the leased minerals. Such information is generally available within the records of the lessee or others involved in developing, transporting, processing, purchasing, or selling of such minerals.

II. Information Collections

The ONRR, acting for the Secretary, uses the information collected to ensure that royalties are based on correct product valuation, reported in a timely manner, and paid appropriately. The ONRR and other Federal Government, state, and tribal entities use the information for audit purposes and for evaluating the reasonableness of product valuation or allowance claims submitted by lessees. Please refer to the burden hour table for all reporting requirements and associated burden hours. All data submitted is subject to subsequent audit and adjustment.

A. Solid Minerals

Producers of coal and other solid minerals from any Federal or Indian lease must submit Form MMS-4430, Solid Minerals Production and Royalty Report, and other associated data formats. Producers of coal from any Indian lease must also submit Form MMS-4292, Coal Washing Allowance Report, and Form MMS-4293, Coal Transportation Allowance Report, if they wish to claim allowances on Form MMS-4430. Companies report certain data on Form MMS-2014, Report of Sales and Royalty Remittance (OMB Control Number 1010-0139). The information requested is the minimum necessary to carry out our mission and places the least possible burden on respondents.

B. Geothermal Resources

This ICR also covers some of the information collections for geothermal resources, which are grouped by usage (electrical generation, direct use, and byproduct recovery), and by disposition of the resources (arm's-length (unaffiliated) contract sales, non-arm's-length contract sales, and no contract sales) within each use group. The ONRR relies primarily on data reported by payors on Form MMS-2014 for the majority of our business processes, including geothermal information. In addition to using the data to account for royalties reported by payors, ONRR uses the data for monthly distribution of mineral revenues and audit and compliance reviews.

III. OMB Approval

We are requesting OMB approval to continue to collect this information. Not collecting this information would limit the Secretary's ability to discharge fiduciary duties and may also result in the loss of royalty payments. Proprietary information submitted to ONRR under this collection is protected, and no items of a sensitive nature are included in this information collection.

Responses are mandatory for Form MMS-4430. A response is required to obtain benefits for Forms MMS-4292 and MMS-4293.

Frequency: Monthly, annually, and on occasion.

Estimated Number and Description of Respondents: 161 reporters.

Estimated Annual Reporting and Recordkeeping “Hour” Burden: 3,509 hours.

We have not included in our estimates certain requirements performed in the normal course of business and considered usual and customary. The following table shows the estimated burden hours by CFR section and paragraph:

Respondents' Estimated Annual Burden Hours
Citation 30 CFR | Reporting and recordkeeping requirement | Hour burden | Average number annual responses | Annual burden hours
Part 1202—Royalties
Subpart H—Geothermal Resources
1202.351(b)(3) | Pay royalties on used, sold, or otherwise finally disposed of byproducts | Hour burden covered under OMB Control Number 1010-0139.
1202.353(a), (b), (c), and (d) | Report on Form MMS-2014, royalties or direct use fee due for geothermal resources, byproduct quantity, and commercially demineralized water quantity | Hour burden covered under OMB Control Number 1010-0139. See § 1210.52.
1202.353(e) | Maintain quality measurements for audits | AUDIT PROCESS See Note.
Part 1206—Product Valuation
Subpart F—Federal Coal
1206.253(c); 1206.254; and 1206.257(d)(1) | Maintain accurate records for Federal lease coal and all data relevant to the royalty value determination. Report the coal quantity information on appropriate forms under 30 CFR part 1210 | 0.4166 | 816 | 340
1206.257(b)(1), (b)(3), (b)(4), and (d)(2) | Demonstrate and certify your arm's-length contract provisions including all consideration paid by buyer, directly or indirectly, for coal production. Provide written information of reported arm's-length coal sales value and quantity data | AUDIT PROCESS See Note.
1206.257(d)(3) | Submit a one-time notification when first reporting royalties on Form MMS-4430 and for a change in method | 2 | 1 | 2
1206.257(f) | Submit all available data relevant to the value determination proposal | 5 | 1 | 5
1206.257(i) | Write and sign contract revisions or amendments by all parties to an arm's-length contract, and retroactively apply revisions or amendments to royalty value for a period not to exceed two years | 2 | 1 | 2
1206.259(a)(1) and (a)(3) | Demonstrate that your contract is arm's-length. Provide written information justifying the lessee's washing costs | AUDIT PROCESS See Note.
1206.259(a)(1) | Report actual washing allowance on Form MMS-4430 for arm's-length sales | 0.34 | 12 | 4
1206.259(b)(1) | Report actual washing allowance on Form MMS-4430 for non-arm's-length or no contract sales | 0.75 | 48 | 36
1206.259(b)(2)(iv) | Report washing allowance on Form MMS-4430 after lessee elects either method for a wash plant | 1 | 1 | 1
1206.259(b)(2)(iv)(A) | Report washing allowance on Form MMS-4430 for depreciation—use either straight-line, or a unit of production method | 1 | 1 | 1
1206.259(c)(1)(ii) and (c)(2)(iii) | Submit arm's-length and non-arm's-length washing contracts and related documents to ONRR | AUDIT PROCESS See Note.
1206.262(a)(1) | Report transportation allowance on Form MMS-4430 | 0.33 | 240 | 80
1206.262(a)(1) and (a)(3) | Demonstrate that your contract is arm's-length. Provide written information justifying your transportation costs when ONRR determines the costs are unreasonable | AUDIT PROCESS See Note.
1206.262(b)(1) | Report actual transportation allowance on Form MMS-4430 for non-arm's-length or no contract sales | 0.75 | 24 | 18
1206.262(b)(2)(iv) | Report transportation allowance on Form MMS-4430 after lessee elects either method for a transportation system | 1 | 1 | 1
1206.262(b)(2)(iv)(A) | Report transportation allowance on Form MMS-4430 for depreciation—use either straight-line, or a unit of production method | 1 | 1 | 1
1206.262(b)(3) | Apply to ONRR for exception from the requirement of computing actual costs | 1 | 1 | 1
1206.262(c)(1)(ii) and (c)(2)(iii) | Submit all arm's-length transportation contracts, production agreements, operating agreements, and related documents to ONRR | AUDIT PROCESS See Note.
1206.264 | Propose the value of coal for royalty purposes to ONRR for an ad valorem Federal coal lease | 1 | 1 | 1
1206.265 | Notify ONRR if, prior to use, sale, or other disposition, you enhanced the value of coal | 1 | 1 | 1
Subpart H—Geothermal Resources
1206.352(b)(1)(ii) | Determine the royalty on produced geothermal resources, used in your power plant for generation and sale of electricity, for Class I leases, as approved by ONRR | Hour burden covered under OMB Control Number 1010-0139.
1206.353(c)(2)(i)(A), (d)(9), and (e)(4) | Include a return on capital you invested when the purchase of real estate for transmission facilities is necessary. Allowable operating and maintenance expenses include other directly allocable and attributable operating and maintenance expenses that you can document | AUDIT PROCESS See Note.
1206.353(g) | Request change to other depreciation alternative method with ONRR approval | 1 | 1 | 1
1206.353(h)(1) and (m)(2) | Use a straight-line depreciation method, but not below salvage value, for equipment Amend your prior estimated Form MMS-2014 reports to reflect actual transmission cost deductions, and pay any additional royalties due plus interest | Hour burden covered under OMB Control Number 1010-0139.
1206.353(n) | Submit all arm's-length transmission contracts, production and operating agreements and related documents, and other data for calculating the deduction | AUDIT PROCESS See Note.
1206.354(b)(1)(ii) | Redetermine your generating cost rate annually and request ONRR approval to use a different deduction period | 1 | 1 | 1
1206.354(c)(2)(i)(A), (d)(9), and (e)(4) | Include a return on capital you invested when the purchase of real estate for a power plant site is necessary. Allowable operating and maintenance expenses include other directly allocable and attributable operating and maintenance expenses that you can document | AUDIT PROCESS See Note.
1206.354(g) | Request change to other depreciation alternative method with ONRR approval | 1 | 1 | 1
1206.354(h) and (m)(2) | Use a straight-line depreciation method, but not below the salvage value, for equipment Amend your prior estimated Form MMS-2014 reports to reflect actual generating cost deductions and pay any additional royalties due plus interest | Hour burden covered under OMB Control Number 1010-0139.
1206.354(n) | Submit all arm's-length power plant contracts, production and operating agreements and related documents, and other data for calculating the deduction | AUDIT PROCESS See Note.
1206.356(a)(1) and (a)(2) | Determine the royalty on produced significant geothermal resource quantities, for Class I leases, with the weighted average of the arm's-length gross proceeds used to operate the same direct-use facility; For Class I leases, the efficiency factor of the alternative energy source will be 0.7 for coal and 0.8 for oil, natural gas, and other fuels derived from oil and natural gas, or an efficiency factor proposed by the lessee and approved by ONRR | Hour burden covered under OMB Control Number 1010-0139.
1206.356(a)(3) | For Class I leases, a royalty determined by any other reasonable method approved by ONRR | 1 | 1 | 1
1206.356(b)(3) | Provide ONRR data showing the geothermal production amount, in pounds or gallons of geothermal fluid, to input into the fee schedule for Class III leases | Hour burden covered under OMB Control Number 1010-0139.
1206.356(c) | The ONRR will determine fees on a case-by-case basis for geothermal resources other than hot water | 1 | 1 | 1
1206.357(b)(3); and 1206.358(d) | Determine the royalty due on byproducts by any other reasonable valuation method approved by ONRR Use a discrete field on Form MMS-2014 to notify ONRR of a transportation allowance | Hour burden covered under OMB Control Number 1010-0139.
1206.358(d)(2) and (e); 1206.359(a)(1), (a)(2), (c)(2)(i)(A), (d)(9), and (e)(4) | Submit arm's-length transportation contracts for reviews and audits, if ONRR requires Pay any additional royalties due plus interest, if you have improperly determined a byproduct transportation allowance Provide written information justifying your transportation costs if ONRR requires you to determine the byproduct transportation allowance. Include a return on capital if the purchase was necessary. Allowable operating and maintenance expenses include any other directly allocable and attributable operating and maintenance expenses that you can document | AUDIT PROCESS See Note.
1206.359(g) | The lessee may not later elect to change to the other alternative without ONRR approval to compute costs associated with capital investment | 1 | 1 | 1
1206.359(h)(1) and (l)(2) | You must use a straight-line depreciation method based on the life of either equipment, or geothermal project You must amend your prior Form MMS-2014 reports to reflect actual byproduct transportation cost deductions and pay any additional royalties due plus interest | Hour burden covered under OMB Control Number 1010-0139.
1206.360(a)(1), (a)(2), and (b); 1206.361(a)(1) | Retain all data relevant to the royalty value, or fee you paid. Show how you calculated then submit all data to ONRR upon request The ONRR may review and audit your data and will direct you to use a different measure, if royalty value, gross proceeds, or fee is inconsistent with subpart | AUDIT PROCESS See Note.
1206.361(a)(2) | Pay either royalties or fees due plus interest if ONRR directs you to use a different royalty value, measure of gross proceeds, or fee | Hour burden covered under OMB Control Number 1010-0139.
1206.361(b), (c), and (d) | The ONRR may require you to: increase the gross proceeds to reflect any additional consideration; use another valuation method; provide written information justifying your gross proceeds; demonstrate that your contract is arm's length; and certify that the provisions in your sales contract include all of the consideration the buyer paid you | AUDIT PROCESS See Note.
1206.361(f)(2) | Write and sign contract revisions or amendments by all parties to the contract | 1 | 1 | 1
1206.364(a)(1) | Request a value determination from ONRR in writing | 3 | 1 | 3
1206.364(c)(2) | Make any adjustments in royalty payments, if you owe additional royalties, and pay the royalties owed plus interest after the Assistant Secretary issues a determination | Hour burden covered under OMB Control Number 1010-0139.
1206.364(d)(2) | You may appeal an order requiring you to pay royalty under the determination | Hour burden covered under OMB Control Number 1010-0122
1206.366 | State, tribal, or local government lessee must pay a nominal fee, if uses a geothermal resource | Hour burden covered under OMB Control Number 1010-0139.
Subpart J—Indian Coal
1206.456(b)(1), (b)(3), and (b)(4) | Demonstrate that your contract is arm's-length. Provide written information justifying the reported coal value. And certify that your arm's-length contract provisions include all direct or indirect consideration paid by buyer for the coal production | AUDIT PROCESS See Note.
1206.456(d)(1); 1206.452(c); 1206.453 | Retain all data relevant to the determination of royalty value to which individual Indian lease coal should be allocated. Report coal quantity information on Form MMS-4430, Solid Minerals Production and Royalty Report, as required under 30 CFR part 1210 | 0.42 | 48 | 20
1206.456(d)(2) | An Indian lessee will make available arm's-length sales and sales quantity data for like-quality coal sold, purchased, or otherwise obtained from the area when requested by an authorized ONRR or Indian representative, or the Inspector General of the Department of the Interior or other persons authorized to receive such information | AUDIT PROCESS See Note.
1206.456(d)(3) | Notify ONRR by letter identifying the valuation method used and procedure followed. This is a one-time notification due no later than the month the lessee first report royalties on the Form MMS-4430 | 1 | 1 | 1
1206.456(f) | Propose a value determination method to ONRR; submit all available data relevant to method; and use that method until ONRR decides | 1 | 1 | 1
1206.456(i) | Write and sign contract revisions or amendments by all parties to an arm's-length contract | 1 | 1 | 1
1206.458(a)(1), (b)(1), (c)(1)(i), (c)(1)(iii), (c)(2)(i), and (c)(2)(iii) | Deduct the reasonable actual coal washing allowance costs incurred under an arm's-length contract, and allowance based upon their reasonable actual costs under a non-arm's-length or no contract, after submitting a completed page one of Form MMS-4292, Coal Washing Allowance Report, containing the actual costs for the previous reporting period, within 3 months after the end of the calendar year after the initial and for succeeding reporting periods, and report deduction on Form MMS-4430 for an arm's-length, or a non-arm's-length, or no contract | 2 | 1 | 2
1206.458(a)(3) | Provide written information justifying your washing costs when ONRR determines your washing value unreasonable | AUDIT PROCESS See Note.
1206.458(b)(2)(iv) | The lessee may not later elect to change to the other alternative without ONRR approval | 1 | 1 | 1
1206.458(b)(2)(iv)(A) | Elect either a straight-line depreciation method based on the life of equipment or reserves, or a unit of production method | 1 | 1 | 1
1206.458(c)(1)(iv) and (c)(2)(vi) | Submit arm's-length washing contracts and all related data used on Form MMS-4292 | AUDIT PROCESS See Note.
1206.461(a)(1), (b)(1), (c)(1)(i), (c)(1)(iii), (c)(2)(i), and (c)(2)(iii) | Submit a completed page one of Form MMS-4293, Coal Transportation Allowance Report, of reasonable, actual transportation allowance costs incurred by the lessee for transporting the coal under an arm's-length contract, in which you may claim a transportation allowance retroactively for a period of not more than 3 months prior to the first day of the month that you filed the form with ONRR, unless ONRR approves a longer period upon a showing of good cause by the lessee. Submit also a completed Form MMS-4293 based upon the lessee's reasonable actual costs under a non-arm's-length or no contract. (Emphasis added.) | 2 | 1 | 2
1206.461(a)(3) | Provide written information justifying your transportation costs when ONRR determines your transportation value unreasonable | AUDIT PROCESS See Note.
1206.461(b)(2)(iv) | Submit completed Form MMS-4293 after a lessee has elected to use either method for a transportation system | 1 | 1 | 1
1206.461(b)(2)(iv)(A) | Submit completed Form MMS-4293 to compute depreciation for election to use either a straight-line depreciation, or unit-of-production method | 1 | 1 | 1
1206.461(b)(3) | Submit completed Form MMS-4293 for exception from the requirement of computing actual costs | 1 | 1 | 1
1206.461(c)(1)(iv) and (c)(2)(vi) | Submit arm's-length transportation contracts, production and operating agreements, and related documents used on Form MMS-4293 | AUDIT PROCESS See Note.
1206.463 | Propose the value of coal for royalty purposes to ONRR for an ad valorem Federal coal lease | 1 | 1 | 1
1206.464 | Notify ONRR if, prior to use, sale, or other disposition, you enhance the value of coal | 1 | 1 | 1
Part 1210—Forms and Reports
Subpart E—Solid Minerals, General
1210.201(a)(1); 1206.259 (c)(1)(i), (c)(2), (e)(2); 1206.262 (c)(1), (c)(2)(i), (e)(2); 1206.458 (c)(4), (e)(2); 1206.461 (c)(4), (e)(2) | Submit a completed Form MMS-4430. Report washing and transportation allowances as a separate line on Form MMS-4430 for arm's-length, non-arm's-length, or no contract sales, unless ONRR approves a different reporting procedure. Submit also a corrected Form MMS-4430 to reflect actual costs, together with any payment, in accordance with instructions provided by ONRR | 0.75 | 1,668 | 1,251
1210.202(a)(1) and (c)(1) | Submit sales summaries via electronic mail where possible for all coal and other solid minerals produced from Federal and Indian leases and for any remote storage site | 0.50 | 1,140 | 570
1210.203(a) | Submit sales contracts, agreements, and contract amendments for sale of all coal and other solid minerals produced from Federal and Indian leases with ad valorem royalty terms | 1 | 30 | 30
1210.204(a)(1) | Submit facility data if you operate a wash plant, refining, ore concentration, or other processing facility for any coal, sodium, potassium, metals, or other solid minerals produced from Federal or Indian leases with ad valorem royalty terms | 0.25 | 360 | 90
1210.205(a) and (b) | Submit detailed statements, documents, or other evidence necessary to verify compliance, as requested | AUDIT PROCESS See Note.
Subpart H—Geothermal Resources
1210.351 | Maintain geothermal records on microfilm, microfiche, or other recorded media | Hour burden covered under OMB Control Number 1010-0139.
1210.352 | Submit additional geothermal information on special forms or reports | 1 | 1 | 1
1210.353 | Submit completed Form MMS-2014 monthly once sales or utilization of geothermal production occur | Hour burden covered under OMB Control Number 1010-0139.
Part 1212—Records and Forms Maintenance
Subpart E—Solid Minerals—General
1212.200(a) | Maintain all records pertaining to Federal and Indian solid minerals leases for 6 years after records are generated unless the record holder is notified, in writing | 0.25 | 4,064 | 1,016
Subpart H—Geothermal Resources
1212.351(a) and (b) | Retain accurate and complete records necessary to demonstrate that payments of royalties, rentals, and other amounts due under Federal geothermal leases are in compliance with laws, lease terms, regulations, and orders Maintain all records pertaining to Federal geothermal leases for 6 years after the records are generated unless the recordholder is notified in writing | Hour burden covered under OMB Control Numbers 1010-0139 (for Forms MMS-2014 and MMS-4054).
Part 1217—Audits and Inspections
Subpart E—Coal
1217.200 | Furnish, free of charge, duplicate copies of audit reports that express opinions on such compliance with Federal lease terms relating to Federal royalties as directed by the Director for the Office of Natural Resources Revenue | AUDIT PROCESS See Note.
Subpart F—Other Solid Minerals
1217.250 | Furnish, free of charge, duplicate copies of annual or other audits of your books | AUDIT PROCESS See Note.
Subpart G—Geothermal Resources
1217.300 | The Secretary, or his/her authorized representative, will initiate and conduct audits or reviews that relate to compliance with applicable regulations | AUDIT PROCESS See Note.
PART 1218—COLLECTION OF MONIES AND PROVISION
FOR GEOTHERMAL CREDITS AND INCENTIVES
Subpart E—Solid Minerals—General
1218.201(b); 1206.457(b); 1206.460(d) | You must tender all payments under § 1218.51 except for Form MMS-4430 payments, include both your customer identification and your customer document identification numbers on your payment document, and you shall be liable for any additional royalties, plus interest, if improperly determined a washing or transportation allowance | 0.0055 | 1,368 | 8
1218.203(a) and (b) | Recoup an overpayment on Indian mineral leases through a recoupment on Form MMS-4430 against the current month's royalties and submit the tribe's written permission to ONRR | 1 | 1 | 1
Subpart F—Geothermal Resources
1218.300; 1218.301; 1218.304; 1218.305(a) | Submit all rental and deferred bonus payments when due and pay in value all royalties due determined by ONRR The payor shall tender all payments. Pay the direct use fees in addition to the annual rental due Pay advanced royalties, under 43 CFR 3212.15(a)(1) to retain your lease, that equal to the average monthly royalty you paid under 30 CFR part 1206, subpart H | Hour burden covered under OMB Control Number 1010-0139.
1218.306(a)(2) | You may receive a credit against royalties if ONRR approves in advance your contract | 4 | 1 | 4
1218.306(b) | Pay in money any royalty amount that is not offset by the credit allowed under this section | Hour burden covered under OMB Control Number 1010-0139.
Total Burden | 9,851 | 3,509
Note: AUDIT PROCESS—The Office of Regulatory Affairs determined that the audit process is exempt from the Paperwork Reduction Act of 1995 because ONRR staff asks non-standard questions to resolve exceptions.

Estimated Annual Reporting and Recordkeeping “Non-hour” Cost Burden: We have identified no “non-hour” cost burden associated with the collection of information.

Public Disclosure Statement: The PRA (44 U.S.C. 3501 et seq.) provides that an agency may not conduct or sponsor, and a person is not required to respond to, a collection of information unless it displays a currently valid OMB control number.

Comments: Section 3506(c)(2)(A) of the PRA requires each agency to “* * * provide 60-day notice in the Federal Register * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, we published a notice in the Federal Register on April 12, 2010 (75 FR 18536), announcing that we would submit this ICR to OMB for approval. The notice provided the required 60-day comment period. We received no comments in response to the notice.

If you wish to comment in response to this notice, you may send your comments to the offices listed under the ADDRESSES section of this notice. The OMB has up to 60 days to approve or disapprove the information collection but may respond after 30 days. Therefore, to ensure maximum consideration, OMB should receive public comments by December 17, 2010.

Public Comment Policy: We post all comments, including names and addresses of respondents, at http://www.regulations.gov. Before including your address, phone number, e-mail address, or other personal identifying information in your comment, be advised that your entire comment—including your personal identifying information—may be made publicly available at any time. While you can ask us in your comment to withhold from public view your personal identifying information, we cannot guarantee that we will be able to do so.

Information Collection Clearance Officer: Arlene Bajusz 703-787-1025.

Dated: October 22, 2010.
Gregory J. Gould,
Director, Office of Natural Resources Revenue.

[FR Doc. 2010-28891 Filed 11-16-10; 8:45 am]

BILLING CODE 4310-MR-P